DEPARTMENT OF THE INTERIOR

National Park Service

[NPS-WASO-D-COS-POL-29629; PPWODIREP0] [PPMPSAS1Y.YP0000]

Notice of the March 11, 2020, Meeting of the National Park System Advisory Board

AGENCY: National Park Service, Interior.

ACTION: Meeting notice.

SUMMARY: In accordance with the Federal Advisory Committee Act of 1972, the National Park Service (NPS) is hereby giving notice that the National Park System Advisory Board (Board) will meet as noted below.

DATES: The meeting will be held on Wednesday, March 11, 2020, from 9:00 a.m. to 5:00 p.m., Pacific Daylight Time.

ADDRESSES: The meeting will be conducted in the Surfbird Room at Cavallo Point Lodge, 601 Murray Circle, Sausalito, California 94965, telephone (415) 339-4700.

FOR FURTHER INFORMATION CONTACT: Joshua Winchell, Staff Director for the National Park System Advisory Board, Office of Policy, National Park Service, 1849 C Street NW, Mail Stop 2659, Washington, DC 20240, telephone (202) 513-7053, or email joshua_winchell@nps.gov.

SUPPLEMENTARY INFORMATION: The Board has been established by authority of the Secretary of the Interior (Secretary) under 54 U.S.C. 100906, and is regulated by the Federal Advisory Committee Act.

The Board will convene its meeting at 9:00 a.m. and adjourn at 5:00 p.m. The Board will receive briefings and discuss topics related to improving the visitor experience in NPS managed units and workforce planning for the next century. The final agenda will be posted to the Board's website prior to the meeting at https://www.nps.gov/advisoryboard.htm.

The meeting is open to the public. Interested persons may choose to make oral comments at the meeting during the designated time for this purpose. Depending on the number of people wishing to comment and the time available, the amount of time for oral comments may be limited. Interested parties should contact the Staff Director for the Board (see FOR FURTHER INFORMATION CONTACT), for advance placement on the public speaker list for this meeting. Members of the public may also choose to submit written comments by emailing them to joshua_winchell@nps.gov. Individuals who plan to attend and need special assistance, such as sign language interpretation, should contact the Staff Director for the Board.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2020-03658 Filed 2-24-20; 8:45 am]

BILLING CODE 4312-52-P